DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: National Medal of Technology and Innovation Nomination Application.

Form Number(s): None.

Agency Approval Number: 0651-0060.

Type of Request: Revision of a currently approved collection.

Burden: 1,600 hours.

Number of Respondents: 40 responses.

Avg. Hours per Response: 40 hours. This includes time to gather the necessary information, create the documents, and submit the completed request to the USPTO.

Needs and Uses: The public uses the National Medal of Technology and Innovation Nomination Application to recognize through nomination an individual's or company's extraordinary leadership and innovation in technological achievement. The application must be accompanied by at least six letters of recommendation or support from individuals who have first-hand knowledge of the cited achievement(s).

Affected Public: Business or other for-profit; not-for-profit institutions.

Frequency: On occasion.

Respondent's Obligation: Voluntary.

OMB Desk Officer: Nicholas A. Fraser, e-mail: Nicholas_A_Fraser@omb.eop.gov .

Once submitted, the request will be publically available in electronic format through the Information Collection Review page at http://www.reginfo.gov.

Paper copies can be obtained by:

• E-mail: Susan.Fawcett@uspto.gov. Include “0651-0060 National Medal of Technology and Innovation Nomination Application copy request” in the subject line of the message.

• Fax: 571-273-0112, marked to the attention of Susan K. Fawcett.

• Mail: Susan K. Fawcett, Records Officer, Office of the Chief Information Officer, Administrative Management Group, U.S. Patent and Trademark Office, P.O. Box 1450, Alexandria, VA 22313-1450.

Written comments and recommendations for the proposed information collection should be sent on or before June 25, 2009 to Nicholas A. Fraser, OMB Desk Officer, via e-mail at Nicholas_A_Fraser@omb.eop.gov or by fax to (202) 395-5167, marked to the attention of Nicholas A. Fraser.

Susan K. Fawcett,
Records Officer, USPTO, Office of the Chief Information Officer, Administrative Management Group.

[FR Doc. E9-12290 Filed 5-22-09; 8:45 am]

BILLING CODE 3510-16-P